DEPARTMENT OF DEFENSE

Department of the Air Force

Air University Board of Visitors; Notice of Meeting

AGENCY: Department of the Air Force, (DoD).

ACTION: Notice of meeting.

SUMMARY: The Air Force Institute of Technology Subcommittee of the Air University Board of Visitors will hold an open meeting on 16-18 March 2003, with the first business session beginning at 0830 (five seats available). The purpose of the meeting is to give the board an opportunity to review Air Force Institute of Technology's educational programs and to present to the Commandant a report of their findings and recommendations concerning these programs.

DATES: 16-18 March 2003.

ADDRESSES: Commandant's Conference Room, Building 642, Wright-Patterson Air Force Base, Ohio.

FOR FURTHER INFORMATION CONTACT: Ms. Beverly Houtz in the Directorate of Resources, Air Force Institute of Technology, (937) 255-8400 x 3630.

Pamela D. Fitzgerald,
Air Force Federal Register Liaison Officer.

[FR Doc. 02-32822 Filed 12-27-02; 8:45 am]

BILLING CODE 5001-05-U